DEPARTMENT OF HEALTH AND HUMAN SERVICES

National Institutes of Health

Proposed Collection; Comment Request; CareerTrac

SUMMARY: Under the provisions of Section 3506(c)(2)(A) of the Paperwork Reduction Act of 1995, the Fogarty International Center (FIC), National Institute of Environmental Health Sciences (NIEHS), including the Intramural Research and Training Award (IRTA) and Superfund Research Program (SRP) within NIEHS, National Institute of General Medical Science (NIGMS), and National Cancer Institute (NCI), has submitted to the Office of Management and Budget (OMB) for review and approval. This is a renewal request. This proposed information collection was previously published in the Federal Register on May 12, 2009 (74 FR 22172). No comments were received from that notification regarding the cost and hour burden estimates.

Proposed Collection

Title: CareerTrac. Type of Information Collection Request: Revision (OMB NO.: 0925-0568 Expiration: September 30, 2012). Need and Use of Information Collection: This data collection system is being developed to track, evaluate and report short- and long-term outputs, outcomes and impacts of trainees involved in health research training programs—specifically tracking this for at least ten years following training by having Principal Investigators enter data after trainees have completed the program. The data collection system provides a streamlined, web-based application permitting principal investigators to record career achievement progress by trainee on a voluntary basis. FIC, NIEHS, NCI and NIGMS management will use this data to monitor, evaluate and adjust grants to ensure desired outcomes are achieved, comply with OMB Part requirements, respond to congressional inquiries, and as a guide to inform future strategic and management decisions regarding the grant program.

Frequency of Response: Annual and periodic Affected Public: none Type of Respondents: Principal Investigators and/or their administrators funded by FIC.NIEHS, NIGMS and NCI. The annual reporting burden is as follows: Estimated Number of Respondents: 365; Estimated Number of Responses per Respondent: 1; Average Burden Hours per Response 7.5; and Estimated Total Annual Burden Hours Requested: 5,460. The annualized cost to respondents is estimated at $109,500. There are no Capital, Operating or Maintenance Cost to report.

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

FOR FURTHER INFORMATION CONTACT: To request more information on the proposed project or to obtain a copy of the data collection plans and instruments, contact Dr. Rachel Sturke, Evaluation Officer, Division of Science Policy, Planning, and Evaluation, FIC, NIH, 16 Center Drive, Bethesda, MD 20892, or call non-toll-free number 301 480-6025 or email your request, including your address to: rachel.sturke@nih.gov.

Comments Due Date: Comments regarding this information collection are best assured of having their full effect if received within 60-days of the date of this publication.

Dated: May 17, 2012.
Dexter Collins,
Executive Officer, FIC, National Institutes of Health.

[FR Doc. 2012-13325 Filed 5-31-12; 8:45 am]

BILLING CODE 4140-01-P